NUCLEAR REGULATORY COMMISSION

[Docket No. 99902046 NRC-2020-0088]

Oklo, Inc.; Oklo Power

AGENCY: Nuclear Regulatory Commission.

ACTION: Combined license application; receipt.

SUMMARY: The U.S. Nuclear Regulatory Commission (NRC) is providing public notice of receipt and availability of an application for a combined license from Oklo Power, a subsidiary of Oklo, Inc.

DATES: The application for the combined license was received on March 11, 2020.

ADDRESSES: Please refer to Docket ID NRC-2020-0088 when contacting the NRC about the availability of information regarding this document. You may obtain publicly-available information related to this document using any of the following methods:

• Federal Rulemaking Website: Go to https://www.regulations.gov and search for Docket ID NRC-2020-0088. Address questions about NRC docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The application will also be available at https://www.nrc.gov/reactors/new-reactors/advanced/oklo.html.

• NRC's PDR: You may examine and purchase copies of public documents at the NRC's PDR, Room O1-F21, One White Flint North, 11555 Rockville Pike, Rockville, Maryland 20852.

FOR FURTHER INFORMATION CONTACT: Lucieann Vechioli, Office of Nuclear Reactor Regulation, U.S. Nuclear Regulatory Commission, Washington, DC 20555-0001; telephone: 301-415-6035; email: Lucieann.Vechioli@nrc.gov.

SUPPLEMENTARY INFORMATION:

I. Discussion

On March 11, 2020, Oklo Power, a subsidiary of Oklo, Inc. filed with the U.S. Nuclear Regulatory Commission (NRC) pursuant to Section 103 of the Atomic Energy Act and title 10 of the Code of Federal Regulations (10 CFR) part 52, “Licenses, Certifications, and Approvals for Nuclear Power Plants,” an application for a combined license (COL) for one micro-reactor at the Idaho National Laboratory located in Idaho. The reactor is to be identified as the Aurora.

An applicant may seek a COL in accordance with subpart C of 10 CFR part 52.

The information submitted by the applicant includes certain administrative information such as financial qualifications submitted pursuant to 10 CFR 52.77 as well as technical information submitted pursuant to 10 CFR 52.79.

Subsequent Federal Register notices will address the acceptability of the tendered COL application for docketing and provisions for participation of the public in the COL process.

Dated at Rockville, Maryland, this 30th day of March 2020.
For the Nuclear Regulatory Commission.
Lucieann Vechioli Feliciano,
Project Manager, Advanced Reactors Licensing Branch, Division of Advanced Reactors and Non-Power Production and Utilization Facilities, Office of Nuclear Reactor Regulation.

[FR Doc. 2020-06939 Filed 4-2-20; 8:45 am]

BILLING CODE 7590-01-P